DEPARTMENT OF THE INTERIOR

Bureau of Land Management

[LLWY920000/51010000.ER0000/LVRWK09K0990/241A; WYW-174598; IDI-35849]

Notice of Availability of the Record of Decision for the Gateway West 230/345/500-kV Transmission Line Project and Approved Land Use Plan Amendments in Idaho and Wyoming

AGENCY: Bureau of Land Management, Interior.

ACTION: Notice of Availability.

SUMMARY: The Bureau of Land Management (BLM) announces the availability of the Record of Decision (ROD) authorizing a right-of-way (ROW) grant to the Proponents' (Idaho Power Company and PacifiCorp, doing business as Rocky Mountain Power) to construct, operate, maintain, and decommission electric transmission lines on public lands for the Gateway West 230/345/500-kilovolt (kV) Transmission Line Project (Project) and approving Land Use Plan (LUP) Amendments in Idaho and Wyoming. The Wyoming State Director's signature on the ROD constitutes the final decision of the BLM and makes the approved LUP Amendments effective immediately.

ADDRESSES: Copies of the ROD are being sent to Federal, State, and local governments, public libraries in the Project area, and interested parties who previously requested a copy. The ROD and supporting documents will be available electronically on the following Web site: http://www.wy.blm.gov/nepa/cfodocs/gateway_west/. To request a copy, contact Walt George, Project Manager, BLM Wyoming State Office, P.O. Box 20879, Cheyenne, WY 82003.

FOR FURTHER INFORMATION CONTACT: Walt George, Project Manager, Bureau of Land Management, Wyoming State Office, P.O. Box 20879, Cheyenne, WY 82003, or by telephone at 307-775-6116. Any persons wishing to be added to a mailing list of interested parties may write or call the Project Manager at this address or phone number. Persons who use a telecommunications device for the deaf (TDD) may call the Federal Information Relay Service (FIRS) at 1-800-877-8339, to contact the above individual during normal business hours. The FIRS is available 24 hours a day, 7 days a week, to leave a message or question with the above individual. You will receive a reply during normal business hours.

SUPPLEMENTARY INFORMATION: In May 2007, the Proponents submitted a ROW application to the BLM requesting authorization to construct, operate, maintain, and decommission electric transmission lines on public lands. The application was revised in October 2007, August 2008, May 2009, January 2010, February 2012, and August 2013, to reflect changes to the proposed Project.

The Gateway West Transmission Line Project, with a capacity of 1,500 megawatts, is planned from Glenrock, Wyoming, to the Hemingway Substation, approximately 20 miles southwest of Boise, Idaho. The Project is approximately 990 miles long and composed of nine 500-kV segments, one short 345-kV sub segment, and one segment with two 230-kV lines. Approximately 482 miles cross Federal lands, 73 miles cross State-managed lands, and 435 miles cross private lands. Of the Federal lands crossed, approximately 461 miles cross the National System of Public Lands administered by the BLM; 14 miles cross National Forest Lands; and 7 miles cross lands administered by the Bureau of Reclamation.

The Proponents' objective for the Project is to improve the reliability and efficiency of both utilities' systems and to address congestion problems with the western electrical grid. The Project is needed to meet projected load growth in the Proponents' service areas. The Project would also tap the developing renewable energy market, especially wind energy in Idaho and Wyoming, and aid in delivering that energy throughout the region.

The BLM purpose and need for this action is to respond to a ROW application, submitted under Section 501 of the Federal Land Policy and Management Act (FLPMA) (43 U.S.C. § 1761(a)), to use public lands for an electric transmission system and related facilities in accordance with FLPMA's multiple use and sustained yield mandates.

The BLM published a Notice of Intent in the Federal Register on May 16, 2008 (73 FR 28425), stating its intent to prepare an Environmental Impact Statement (EIS) pursuant to the National Environmental Policy Act (NEPA) (40 CFR 1501.7). The BLM is the lead Federal agency for the NEPA analysis process and preparation of the EIS. The Notice of Intent initiated the public scoping comment period that concluded on July 3, 2008. In response to a request from non-Federal cooperating agencies, the scoping period was extended to September 4, 2009, to allow time to develop additional alternatives. On July 29, 2011, the BLM published the Notice of Availability for the Draft EIS in the Federal Register (76 FR 45609), starting a 90-day public comment period. On June 29, 2012, the BLM released the Addendum to the Draft EIS—Effects of Proposed Project on Greater Sage-Grouse—for an additional 30-day public comment period. The report included the Greater Sage-Grouse habitat equivalency analysis, which was not available at the time the Draft EIS was released.

The Final EIS was developed incorporating updated environmental analysis as well as the extensive input from public comments, stakeholder outreach, interagency collaboration, and government-to-government consultation with Native American Tribes in the Project area. The Final EIS analyzed the environmental consequences of the No Action alternative, the proposed action, 36 route alternatives, and land use plan amendments. On April 26, 2013, the BLM published the Notice of Availability of the Final EIS (78 FR 24771), triggering a final 60-day public review period. Printed and electronic copies of the Draft EIS, Addendum to the Draft EIS, and Final EIS are available at the Wyoming State Office and posted online at http://www.wy.blm.gov/nepa/cfodocs/gateway_west/.

In response to comments made on the Final EIS, a number of adjustments were made to the BLM's Preferred Routes, and several of the mitigation measures were revised. All mitigation measures are included in the ROD. Three micro-siting reroutes were included in Segment 4 of the Project to address concerns raised by Lincoln County and the City of Cokeville, as well as to avoid landslide hazards and private lands protected under conservation easements. These reroutes were assessed based on analysis in the Final EIS that covers the same general areas, as well as additional site-specific analysis. A report discussing the micro-siting considerations and reroutes in detail is included with the ROD. The ROD includes the BLM's response to comments on the Final EIS as well as an errata sheet listing corrections to the Final EIS document.

The decision is to authorize Segments 1 through 7 and Segment 10 of the Project and to allow the various Federal, State, and local permitting agencies additional time to offer input on a routing decision in Segments 8 and 9 of the Project in Idaho. The BLM Wyoming State Director signed the ROD, which constitutes the final decision of the BLM and makes the ROW and LUP amendment decisions effective immediately. However, there are additional requirements such as completing the Plan of Development, mitigation plans, and other informational requirements that the Grant Holders must meet before receiving permission to use the authorized area of public lands for the project. The BLM will grant permission to use these areas through its Notice to Proceed process (43 CFR 2805.10(a)(2)).

The BLM Decisions—Phased Decision: Due to the substantial interest expressed by local stakeholders and government officials in continuing to work toward a consensus route in Segments 8 and 9 of the Project, as well as questions raised regarding allowable actions under BLM policies and regulations for the Morley Nelson Snake River Birds of Prey National Conservation Area, the BLM has decided to postpone a decision on the routes and land use plan amendments associated with Segments 8 and 9 until further input can be gathered. The BLM will initiate siting discussions with cooperating agencies and stakeholders. At the conclusion of these discussions, the BLM will determine whether additional environmental analysis is required and prepare further environmental documentation, if needed. The public would be afforded an opportunity to review and comment on any potential supplemental environmental review document. The BLM would respond to public comments and provide its rationale on a decision for Segments 8 and 9 in a second ROD. The Proponents have demonstrated independent utility for Segments 1 through 7 of the Project, as well as Segment 10, which connects the Cedar Hill and Midpoint Substations just east of Segments 8 and 9.

BLM Decisions—Approved Segments: The ROD approves, with all mitigation measures identified in the ROD, a ROW grant for the following route alternatives for Segments 1 through 7 and Segment 10:

• Segment 1: Proposed 1W(a) and 1W(c) Routes

• Segment 2: Proposed Route

• Segment 3: Proposed Route, including Route 3A

• Segment 4: Revised Proposed Route, including a reroute east and north of the community of Cokeville

• Segment 5: Proposed Route, incorporating Alternatives 5B and 5E

• Segment 6: The proposed upgrade from 345 kV to 500 kV

• Segment 7: Proposed Route, incorporating Alternatives 7B, 7C, 7D, and 7G. The Proposed Route in the East Hills and Alternative 7G will be micro-sited to avoid Preliminary Priority Habitat for Greater Sage-Grouse.

• Segment 10: Proposed Route

BLM Decisions—Land Use Plan Amendments: The BLM planning regulations (43 CFR 1610.5-3) require authorized uses of public lands to conform to approved LUPs. The LUP amendments' preferred alternatives that were analyzed in the draft EIS associated with Segments 1 through 7 of the Project, as well as Segment 10, which connects the Cedar Hill and Midpoint Substations just east of Segments 8 and 9, were carried forward in the final EIS, with minor modifications made in preparing the approved LUP Amendments. The BLM received five protest letters on the Proposed LUP Amendments/Final EIS. The BLM Director denied all protest issues. The Director's Protest Resolution Report can be accessed at the following Web site: http://www.blm.gov/wo/st/en/prog/planning/planning_overview/protest_resolution/protestreports.html. To bring the Project into conformance, the ROD approves the following amendments to BLM resource management plans (RMP) in the Project area:

• Green River RMP: One amendment for visual resource management.

• Kemmerer RMP: Four amendments for visual resource management, National Historic Trails, and the Rock Creek/Tunp Special Management Area.

All plan amendments comply with applicable Federal laws and regulations and apply only to Federal lands and mineral estates administered by the BLM.

Appeal Information: A party may appeal the BLM's decision before the Interior Board of Land Appeals within 30 days of publication of this Notice of Availability in the Federal Register in accordance with the requirements of 43 CFR part 4, subpart E. BLM decisions issued under 43 CFR part 2800 are and remain in effect pending appeal (43 CFR 2801.10(b)). A party can file a petition for a stay of the decision pending appeal before the Interior Board of Land Appeals, but the stay petition must accompany the Notice of Appeal (43 CFR 2801.10; 43CFR 4.21). The appeal must be filed with the BLM Wyoming State Office at the above listed address. Please consult the appropriate regulations (43 CFR part 4, subpart E) and Appendix N of the ROD for further appeal requirements.

Authority: 40 CFR 1502.2 and 43 CFR 1610.5.

Donald A. Simpson,
Wyoming State Director.

[FR Doc. 2013-27261 Filed 11-13-13; 8:45 am]

BILLING CODE 4310-$$-P